DEPARTMENT OF COMMERCE

National Oceanic and Atmospheric Administration

[RTID 0648-XA372]

Pacific Fishery Management Council; Public Meeting

AGENCY: National Marine Fisheries Service (NMFS), National Oceanic and Atmospheric Administration (NOAA), Commerce.

ACTION: Notice of public meeting.

SUMMARY: The Ecosystem Subcommittee of the Pacific Fishery Management Council's (Pacific Council's) Scientific and Statistical Committee (SSC) will hold an online meeting to review items from the California Current Ecosystem Integrated Ecosystem Assessment Team that may potentially inform future annual reports to the Pacific Council on the state of the California Current Ecosystem. The meeting is open to the public.

DATES: The SSC Ecosystem Subcommittee meeting will be held Friday, September 4, 2020 and will continue on Tuesday, September 8, 2020. The September 4 meeting will begin at 8:30 a.m. and continue until 12 p.m. Pacific Daylight Time or until business for the day has been completed. The September 8 meeting will begin at 1 p.m. and continue until 5 p.m. Pacific Daylight Time or until business for the day has been completed.

ADDRESSES: The SSC's Ecosystem Subcommittee meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Ecosystem Subcommittee meeting is to review items from the California Current Integrated Ecosystem Assessment program that may inform future annual reports to the Pacific Council on the state of the California Current Ecosystem. Specifically, the SSC Ecosystem Subcommittee will review the following four items (the first two on Friday, September 4 and the last two on Tuesday, September 8): (1) California Sea Lion Pup Growth as an Indicator of Forage Conditions, (2) Natural Origin Central Valley Fall Chinook Stock Indicator, (3) Habitat Compression Index, and (4) Port-specific Revenue Indices. The SSC Ecosystem Subcommittee will consider recommending summaries of these ecosystem indicators be included in future state of the California Current Ecosystem reports to the Pacific Council.

No management actions will be decided by the SSC's Ecosystem Subcommittee. The SSC Ecosystem Subcommittee members' role will be development of recommendations and a report for consideration by the SSC and Pacific Council at their March 2021 meeting in Seattle, WA.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC Ecosystem Subcommittee to take final action to address the emergency.

Special Accommodations

Requests for sign language interpretation or other auxiliary aids should be directed to Mr. Kris Kleinschmidt (503) 820-2412 at least 10 days prior to the meeting date.

Authority: 16 U.S.C. 1801 et seq.

Dated: August 17, 2020.
Tracey L. Thompson,
Acting Deputy Director, Office of Sustainable Fisheries, National Marine Fisheries Service.

[FR Doc. 2020-18249 Filed 8-19-20; 8:45 am]

BILLING CODE 3510-22-P